DEPARTMENT OF AGRICULTURE

National Agricultural Statistics Service

Notice of Intent To Revise an Information Collection

AGENCY: National Agricultural Statistics Service, USDA.

ACTION: Intent to revise an information collection.

SUMMARY: In accordance with the Paperwork Reduction Act of 1995 (Pub. L. 104-13) and Office of Management and Budget regulations at 5 CFR part 1320 (60 FR 44978, August 29, 1995), this notice announces the intent of the National Agricultural Statistics Service (NASS) to discontinue the Milkfat Prices Survey as part of the Milk and Milk Products Surveys information collection.

DATES: Comments on this notice must be received by December 20, 2002 to be assured of consideration. The final milkfat price report will be released on December 20, 2002.

ADDRESSES: Comments may be mailed to Ginny McBride, NASS OMB Clearance Officer, U.S. Department of Agriculture, Room 5336 South Building, 1400 Independence Avenue SW, Washington, DC 20250 or sent electronically to gmcbride@nass.usda.gov.

FOR FURTHER INFORMATION CONTACT: Rich Allen, Associate Administrator, National Agricultural Statistics Service, U.S. Department of Agriculture, (202) 720-4333.

SUPPLEMENTARY INFORMATION: Title: Milk and Milk Products Surveys.

OMB Control Number: 0535-0020.

Expiration Date of Approval: 09/30/04.

Type of Request: Intent to Revise an Information Collection.

Abstract: The primary objective of the National Agricultural Statistics Service is to prepare and issue state and national estimates of crop and livestock production, prices, and disposition. The Milk and Milk Products Surveys obtain basic agricultural statistics on milk production and manufactured dairy products from farmers and processing plants throughout the nation. Data are gathered for milk production, dairy products, evaporated and condensed milk, manufactured dry milk, and manufactured whey products. Dairy statistics are used by the U. S. Department of Agriculture to help administer programs and by the dairy industry in planning, pricing, and projecting supplies of milk and milk products. In addition, the Agricultural Marketing Service uses the weekly dairy product prices to establish minimum prices for milk under the Federal Milk Marketing Order. The Agricultural Appropriation Act for fiscal year 2001 authorized funding to develop and implement a biweekly milkfat price survey to benefit all segments of the dairy industry. The survey was requested by dairy industry leaders to meet the industry's need for a better measure of the true value of milkfat. A pilot survey was conducted to determine if accurate and unbiased prices could be collected from buyers of cream. The data were analyzed and the first milkfat price release was published on May 11, 2001. The survey was continued but, due to the nature of milkfat pricing, it was often difficult for respondents to report in a timely manner and revisions to previous week's figures were common. Contacts with representatives from the dairy industry and other government agencies indicated that the milkfat price data were not useful to the dairy industry and were not used in making marketing or regulatory decisions. Therefore NASS will discontinue the collection of milkfat price data and the biweekly release after December 20, 2002.

Copies of this information collection and related instructions can be obtained without charge from Ginny McBride, the Agency OBM Clearance Officer, at (202) 720-5778.

Signed at Washington, DC, October 30, 2002.
Fred Vogel,
Deputy Administrator for Programs and Products.

[FR Doc. 02-28666 Filed 11-8-02; 8:45 am]

BILLING CODE 3410-20-P